DEPARTMENT OF COMMERCE

Foreign-Trade Zones Board

[Order No. 1426]

Extension of Nonprivileged Foreign Status Authority, Five Oil Refinery/Petrochemical Subzones

Pursuant to its authority under the Foreign-Trade Zones Act of June 18, 1934, as amended (19 U.S.C. 81a-81u), the Foreign-Trade Zones Board (the Board) adopts the following Order:

Whereas, the Foreign-Trade Zones Act provides for “ . . . the establishment . . . of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the Board approved the oil refinery/petrochemical complex subzones listed below to conduct certain activity under zone procedures, subject to three conditions;

Whereas, applications were submitted from the FTZ grantees of the subzones listed below, requesting a time extension of authority (removing Condition No. 3) to elect nonprivileged foreign status (NPF) on crude oil and related inputs used in the production of certain petrochemical feedstocks and refinery by-products at the crude oil refineries/petrochemical complexes listed below;

Whereas, Conditions No. 1 and No. 2 of the original Board Orders would remain in effect, with Condition No. 2 updated to conform to the standard FTZ oil refinery/petrochemical restrictions on eligible foreign inputs and finished products as listed below;

Whereas, the applications were filed by the Board on November 30, 2004, and notice describing the applications and inviting public comment was given in the Federal Register (FTZ Docket 54-2004, 69 FR 70996, 12/8/2004); and,

Whereas, the Board adopts the findings and recommendations of the examiner's report, and finds that the requirements of the FTZ Act and Board's regulations would be satisfied, and that approval of the applications would be in the public interest if approval were subject to the conditions listed below;

Now, therefore, the Board hereby amends the Board Orders listed below, authorizing an extension of authority for the listed subzones, subject to the FTZ Act and the Board's regulations, including Sec. 400.28, and further subject to the following conditions:

1. Foreign status (19 CFR 146.41, 146.42) products consumed as fuel for the refinery shall be subject to the applicable duty rate.

2. Privileged foreign status (19 CFR 146.41) shall be elected on all foreign merchandise admitted to the subzone, except that nonprivileged foreign (NPF) status (19 CFR 146.42) may be elected on refinery inputs covered under HTSUS Subheadings 2709.00.10, 2709.00.20, 2710.11.25, 2710.11.45, 2710.19.05, 2710.19.10, 2710.19.45, 2710.91.00, 2710.99.05, 2710.99.10, 2710.99.16, 2710.99.21 and 2710.99.45 which are used in the production of:

--petrochemical feedstocks and refinery by-products (examiner's report, Standard Appendix “C'');

--products for export;

--and, products eligible for entry under HTSUS #9808.00.30 and #9808.00.40 (U.S. Government purchases).

Grantee: Port of Long Beach, California
Board Order | Subzone | Company | Location
1050 | 50G | Shell Oil ProductsU.S. | Los Angeles, CA

Grantee: Port of Corpus Christi Authority, Texas
Board Order | Subzone | Company | Location
1086 | 122N | Equistar Chemicals, LP | Nueces Co., TX

Grantee: Port of Freeport, Texas
Board Order | Subzone | Company | Location
1087 | 149F | Equistar Chemicals, LP | Brazoria Co., TX
1088 | 149G | Dow Chemical Company | Brazoria Co., TX

Grantee: Board of Harbor Commissioners of the City of Los Angeles, California
Board Order | Subzone | Company | Location
1032 | 202C | ConocoPhillips Company | Los Angeles, CA

Signed at Washington, DC, this 9th day of December 2005.
Joseph A. Spetrini,
Acting Assistant Secretary of Commerce for Import Administration, Alternate Chairman, Foreign-Trade Zones Board.
Attest:
Dennis Puccinelli,
Executive Secretary.

[FR Doc. E5-7709 Filed 12-21-05; 8:45 am]

BILLING CODE 3510-DS-S